DEPARTMENT OF DEFENSE

Office of the Secretary

[Transmittal No. 06-27]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated 21 July 1996.

FOR FURTHER INFORMATION CONTACT: Ms. J. Hurd, DSCA/DBO/ADM, (703) 604-6575.

The following is a copy of a letter to the Speaker of the House of Representatives, Transmittal 06-27 with attached transmittal, policy justification, and Sensitivity of Technology.

C.R. Choate,
Alternate OSD Federal Register Liaison Officer, Department of Defense.

June 5, 2006.

In reply refer to: I-06/003979

The Honorable J. Dennis Hastert, Speaker of the House of Representatives, Washington, DC 20515-6501.

Dear Mr. Speaker: Pursuant to the reporting requirements of Section 36(b)(1) of the Arms Export Control Act, as amended, we are forwarding herewith Transmittal No. 06-27, concerning the Department of the Navy's proposed Letter(s) of Offer and Acceptance to Japan for defense articles and services estimated to cost $70 million. After this letter is delivered to your office, we plan to issue a press statement to notify the public of this proposed rule.

Sincerely,

Richard J. Millies,
Deputy Director.

Enclosures:

1. Transmittal.

2. Policy Justification.

3. Sensitivity of Technology.

Same ltr to:

House

Committee on International Relations.

Committee on Armed Services.

Committee on Appropriations.

Senate

Committee on Foreign Relations.

Committee on Armed Services.

Committee on Appropriations.

BILLING CODE 5001-06-M

[FR Doc. 06-5331 Filed 6-12-06; 8:45 am]

BILLING CODE 5001-06-M